DEPARTMENT OF COMMERCE

National Oceanic and Atmospheric Administration

RINS 0648-XZ51, 0648-XA524, 0648-XA756, 0648-XD824, 0648-XE041, 0648-XE580, 0648-XE599, and 0648-XE622

Marine Mammals and Endangered Species; File Nos. 15543-06, 15488-01, 15537-02, 18890, 19091, 19116, 19638, 20283

AGENCY: National Marine Fisheries Service (NMFS), National Oceanic and Atmospheric Administration (NOAA), Commerce.

ACTION: Notice; issuance of permits and amendments.

SUMMARY: Notice is hereby given that permits or permit amendments have been issued to the following entities:

Permit No. 15543-06: Randy Wells, Ph.D., Sarasota Dolphin Research Program, c/o Mote Marine Laboratory, 1600 Ken Thompson Parkway, Sarasota, FL 34236;

Permit No. 15488-01: Georgia Department of Natural Resources (GADNR), Wildlife Resources Division, 2070 U.S. Hwy 278 SE., Social Circle, GA 30025 (Dan Forster, Responsible Party);

Permit No. 15537-02: Institute for Marine Mammal Studies (IMMS), P.O. Box 207, Gulfport, MS 39502 (Moby Solangi, Ph.D., Responsible Party);

Permit No. 18890: Alaska Department of Fish and Game (ADFG), 1255 West 8th Street, Juneau, Alaska, 99811-5526 (Robert Small, Ph.D., Responsible Party);

Permit No. 19091: NMFS Southwest Fisheries Science Center (SWFSC), 8901 La Jolla Shore Dr., La Jolla, CA 92037, [Lisa Ballance, Ph.D., Responsible Party];

Permit No. 19116: Brandon Southall, Ph.D., Southall Environmental Services Inc., 9099 Soquel Drive, Suite 8, Aptos, CA 95003;

Permit No. 19638: Paul Ponganis, Ph.D., University of California at San Diego, La Jolla, CA, 92093; and

Permit No. 20283: Demian Chapman, Ph.D., School of Marine and Atmospheric Science, Stony Brook University, Stony Brook, NY 11794.

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore (Permit Nos. 15537-02, 20283), Amy Sloan (Permit Nos. 15537-02, 15543-06, 18890, 19638), Carrie Hubard (Permit No. 15488-01), Amy Hapeman (Permit No. 19091), and Sara Young (Permit Nos. 19116 and 19638), (301) 427-8401.

SUPPLEMENTARY INFORMATION: Notices were published in the Federal Register that requests for a permit had been submitted by the above-named applicants, as applicable. The requested permits have been issued under the following authorities, as applicable: The Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 15543 (Dr. Wells) was issued on May 26, 2011 (76 FR 32144, June 3, 2011), authorizing research on bottlenose dolphins (Tursiops truncatus) in Florida including photo-identification, behavioral studies, remote biopsy sampling, and captures for health assessments. The purpose of the research is to study population structure and dynamics, life history, social structure, genetic structure, health and physiology, and human interactions including assessments of oil spill impacts. The permit was amended on four occasions to add minor changes to protocols, and on one occasion via a major amendment (80 FR 23258, April 27, 2015) to expand the study area to include Alabama and Louisiana, and to add studies on Atlantic spotted dolphins (Stenella frontalis). The issued minor amendment (No. 15543-06) extends the duration of the permit through June 1, 2017, and adds the use of an alternative stable isotope and administration technique for physiology studies, but otherwise does not change any other terms or conditions of the permit.

Permit No. 15488 (GADNR) issued on June 24, 2011 (75 FR 75458, December 3, 2010), authorizes research on North Atlantic right whales (Eubalaena glacialis) off the coast of Georgia, Florida, and South Carolina. Activities include aerial surveys, vessel surveys, photo-identification, biopsy sampling, and behavioral observations. The purpose of the research is to monitor population status, demographics, habitat and anthropogenic impacts. The issued minor amendment (No. 15488-01) extends the duration of the permit through June 30, 2017, but does not change any other terms or conditions of the permit.

Permit No. 15537 (IMMS) was issued on October 5, 2011 (76 FR 63286, October 12, 2011), authorizing the acquisition of up to eight stranded, releasable California sea lions (Zalophus californianus) from the NMFS Marine Mammal Health and Stranding Response Program for the purposes of public display. Permit No. 15537 was amended on May 2, 2016 (81 FR 33217, May 25, 2016), in response to a Court-ordered remand of the permit to NMFS for reconsideration. IMMS v. NMFS, No. 1:11CV318-LG-JMR (S.D.Miss. 2014). Permit Condition B.3 was removed, Permit Condition B.2 was amended and the permit was extended for one year. The issued permit amendment (No. 15537-02) further extends the duration of permit through December 31, 2018, but does not change any other terms or conditions of the permit.

Permit No. 18890 (ADF&G; 80 FR 15992, March 26, 2015) authorizes research on beluga (Delphinapterus leucas), bowhead (Balaena mysticetus), gray, and humpback whales in Alaska including photo-identification, biopsy sampling, and tagging (large whales and belugas) and aerial surveys and captures for health assessments (belugas, excluding the Cook Inlet Distinct Population Segment). Research studies include population abundance (beluga), stock structure (bowhead, gray, humpback, and beluga), feeding areas and other important habitats (all species), migration routes (all species), behavior relative to human disturbance (all species), and to genetically identify individuals in order to determine survival and calving intervals (belugas). Ice seals may be incidentally captured or harassed during research. Biological samples may be imported or exported for analysis. The permit is valid for five years from the date of issuance.

Permit No. 19091 (SWFSC; 80 FR 45196, July 29, 2015) authorizes research on over 55 species of marine mammals and five species of sea turtles in all oceans of the world, with special focus on the eastern Pacific Ocean. The purpose of this research is to determine the abundance, distribution, movement patterns, dive behavior, demography and stock structure, and to monitor trends in recruitment of pinnipeds, cetaceans, and sea turtles in U.S. territorial and international waters. Researchers may conduct ground, vessel, and aerial surveys for observation, photogrammetry, photo-identification, biological sampling, and tagging animals. A request to use fully implantable satellite tags for cetaceans was denied. Researchers also may salvage and receive/import/export specimens and biological samples of these species. The permit is valid for five years from the date of issuance.

Permit No. 19116 (Dr. Southall; 81 FR 29847, May 13, 2016) authorizes research involving studies of sound production, diving and other behavior, and responses to sound of sixteen species of marine mammals, including endangered species. This study involves close approaches, attachment of tags, and sound exposure. Small fragments of sloughed skin, which often remain attached to retrieved tags, would be used for genetic analyses. Target species include beaked whales and other odontocetes, key baleen whales, and pinniped species for whom such data have not been previously obtained; other marine species may be incidentally harassed. The permit is valid for five years from the date of issuance.

Permit No. 19638 (Dr. Ponganis; 81 FR 29846, May 13, 2016) authorizes research to determine the role of blood oxygen store depletion in the dive behavior and foraging ecology of California sea lions on San Nicolas Island, California. Lactating females would be captured, flipper tagged, anesthetized, and equipped with a venous or arterial blood oxygen recorder, a velocity-acceleration-depth recorder, kinematic recorders, intravascular lactate sensor, or intravascular thermistor probe during foraging trips to sea. Animals would be recaptured after the foraging trip to remove the recorders. The pups of the females would also be captured and marked for ID purposes. Other pinnipeds may be incidentally harassed. The permit is valid for five years from the date of issuance.

Permit No. 20283 (Dr. Chapman; 81 FR 33212, May 25, 2016) authorizes the import of scalloped hammerhead shark (Sphyrna lewini) samples obtained from the Hong Kong fish market in order to assess global trade of shark fins through genetic analysis. Samples from up to 200 individuals would be imported to the Florida International University for analysis. The permit is valid for two years from the date of issuance.

In compliance with the National Environmental Policy Act of 1969 (42 U.S.C. 4321 et seq.), a final determination has been made that the activities proposed are categorically excluded from the requirement to prepare an environmental assessment or environmental impact statement, with the exception of File No. 19116.

For File No. 19116, an environmental assessment (EA) was prepared analyzing the effects of the permitted activities on the human environment in compliance with NEPA. Based on the analyses in the EA, NMFS determined that issuance of the permit would not significantly impact the quality of the human environment and that preparation of an environmental impact statement was not required. That determination is documented in a Finding of No Significant Impact, signed on July 8, 2016.

As required by the ESA, as applicable, issuance of these permits were based on a finding that such permits: (1) Were applied for in good faith; (2) will not operate to the disadvantage of such endangered species; and (3) are consistent with the purposes and policies set forth in section 2 of the ESA.

Dated: August 25, 2016.
Julia Harrison,
Chief, Permits and Conservation Division, Office of Protected Resources, National Marine Fisheries Service.

[FR Doc. 2016-20941 Filed 8-30-16; 8:45 am]

BILLING CODE 3510-22-P